DEPARTMENT OF THE INTERIOR

Fish and Wildlife Service

Draft Revised Recovery Plan for the ‘Alalā (Corvus hawaiiensis)

AGENCY: Fish and Wildlife Service, Interior.

ACTION: Notice of document availability for review and comment.

SUMMARY: The U.S. Fish and Wildlife Service (“we”) announces the availability of a draft revised recovery plan for the ‘Alalā, or Hawaiian Crow (Corvus hawaiiensis) for public review. This endemic Hawaiian bird, a member of the family Corvidae, is now believed to be extinct in the wild and survives only in captivity. The ‘Alalā was listed as an endangered species in 1967 (32 FR 4001). The original recovery plan for the ‘Alalā was published in 1982.

DATES: Comments on the draft revised recovery plan must be received on or before February 17, 2004 to receive our consideration.

ADDRESSES: Copies of the draft revised recovery plan are available for inspection, by appointment, during normal business hours at the following locations: U.S. Fish and Wildlife Service, Pacific Islands Fish and Wildlife Office, 300 Ala Moana Boulevard, Room 3-122, Honolulu, Hawaii 96850 (telephone 808-792-9400) and Hawaii State Library, 478 S. King Street, Honolulu, Hawaii 96813. Requests for copies of the draft revised recovery plan and written comments and materials regarding this plan should be addressed to the Field Supervisor, Ecological Services, at the above Honolulu address. An electronic copy of the draft revised recovery plan is also available at: http://endangered.fws.gov/recovery/index.html#plans.

FOR FURTHER INFORMATION CONTACT: Jay Nelson, Fish and Wildlife Biologist, at the above Honolulu address.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Comments may result in changes to the plan. Comments regarding recovery plan implementation will be forwarded to appropriate Federal or other entities so that they can take these comments into account during the course of implementing recovery actions. Individual responses to comments will not be provided.

The Hawaiian Crow, or ‘Alalā, is an omnivorous, forest-dwelling bird endemic to dry and mesic forests on the island of Hawaii. Although ‘Alalā were still abundant in the 1890's, their numbers decreased sharply throughout the twentieth century despite legal protection conferred by the Territory of Hawaii in 1931, the Act in 1973, and the State of Hawaii Endangered Species Act in 1982. Progressive range reduction and population fragmentation have characterized the decline. By 1987, the wild ‘Alalā population was reduced to a single bird in north Kona, and an unknown number in central Kona, on the west slope of Mauna Loa volcano, Hawaii. The last reproduction of birds in the wild was in 1996, and the wild population declined from 12 birds in 1992 to 2 birds (possibly 3) in 2002, and apparent extinction in the wild in 2003.

Today, the ‘Alalā is believed to survive only in captivity. Small population size and inbreeding are the primary threats to the species at present, fertility and hatching success in captivity are currently low, and the incidence of congenital abnormalities is increasing.

Many factors contributed to the decline of ‘Alalā in the wild. Destruction of most of the lowland forests restricted the bird’s ability to follow seasonal fruiting up and down the mountains. The upland forests have been thinned and fragmented, and many fruiting plants lost, due to logging, ranching, and the effects of grazing by feral pigs, cattle, and sheep. Mongooses, cats, and rats prey on ‘Alalā eggs and fledglings. Diseases carried by introduced mosquitoes may have cause the mortality of many ‘Alalā, as they did other forest birds. The role of ‘Io in this decline, however, is unknown, despite their known effect on released birds. However, ‘Io densities are higher, and vulnerability of ‘Alalā may be greater, in areas where ungulate grazing has reduced understory cover.

The overall objective of this plan is to provide a framework for the recovery of the ‘Alalā so that its protection under the Act is no longer necessary. Recovery is contingent upon protecting and managing suitable habitat for reintroduction of ‘Alalā. Recovery actions include measures to protect habitat where the taxa occurred and habitat where the species is not known to have occurred but which may be suitable, restoration of degraded habitat, removal of feral ungulates from habitat areas, predator control, captive propagation and reintroduction, development of strategies to reduce mortality of reintroduced ‘Alalā by ‘Io predation, and the development of means to address threats of avian disease. Key to recovery will be propagation of ‘Alalā in captivity; removal of feral ungulates that degrade forest habitat, spread introduced nonnative plant species, and create breeding sites for disease-carrying mosquitoes; control of introduced rodents; removal of feral cats that carry toxoplasmosis; and control of invasive plant species. Habitat management and restoration will increase foods available to released ‘Alalā and provide better cover for escape in areas with ‘Io.

Significant features of the ‘Alalā's life history, behavior, ecological interactions, and habitat needs remain unknown. These unknowns, combined with the pressing need to successfully maintain and augment the last remaining population of the species in captivity, led us to develop a draft revised recovery plan that focuses primarily on actions to conserve the ‘Alalā in the short-term while working within the framework of a broader long-term recovery strategy. This draft revised recovery plan is therefore presented in three sections: (1) An Introduction and Overview provides information on the biology of the species; (2) a Strategic Plan outlines the overall long-term goals and broad strategies which we anticipate shall remain effective throughout the recovery process for this species; and (3) a 5-year Implementation Plan which sets short-term goals for recovery efforts and research essential to conservation of the species. It is anticipated that new Implementation Plans will be prepared and published as addenda to the revised recovery plan every 3 to 5 years as we gain further knowledge of the ‘Alalā and are better able to determine the parameters and techniques for the effective recovery of this species in the wild.

Public Comments Solicited

We solicit written comments on the draft revised recovery plan described. All comments received by the date specified above will be considered in developing a final revised recovery plan.

Authority

The authority for this action is section 4(f) of the Endangered Species Act, 16 U.S.C. 1533 (f).

Dated: October 16, 2003.
David J. Wesley,
Regional Director, Region 1, U.S. Fish and Wildlife Service.

[FR Doc. 03-31166 Filed 12-17-03; 8:45 am]

BILLING CODE 4310-55-P